DEPARTMENT OF COMMERCE

Foreign-Trade Zones Board

[S-103-2018]

Approval of Subzone Status; MAS US Holdings, Inc.; Siler City and Asheboro, North Carolina

On July 23, 2018, the Acting Executive Secretary of the Foreign-Trade Zones (FTZ) Board docketed an application submitted by the Triangle J Council of Governments, grantee of FTZ 93, requesting subzone status subject to the existing activation limit of FTZ 93, on behalf of MAS US Holdings, Inc. in Siler City and Asheboro, North Carolina.

The application was processed in accordance with the FTZ Act and Regulations, including notice in the Federal Register inviting public comment (83 FR 35611, July 27, 2018). The FTZ staff examiner reviewed the application and determined that it meets the criteria for approval.

Pursuant to the authority delegated to the FTZ Board's Executive Secretary (15 CFR Sec. 400.36(f)), the application to establish Subzone 93J was approved on October 22, 2018, subject to the FTZ Act and the Board's regulations, including Section 400.13, and further subject to FTZ 93's 2,000-acre activation limit.

Dated: October 22, 2018.
Andrew McGilvray,
Executive Secretary.

[FR Doc. 2018-23455 Filed 10-25-18; 8:45 am]

BILLING CODE 3510-DS-P